DEPARTMENT OF COMMERCE

Economic Development Administration

Notice of Petitions by Firms for Determination of Eligibility To Apply for Trade Adjustment Assistance

AGENCY: Economic Development Administration, U.S. Department of Commerce.

ACTION: Notice and opportunity for public comment.

SUMMARY: The Economic Development Administration (EDA) has received petitions for certification of eligibility to apply for Trade Adjustment Assistance from the firms listed below. Accordingly, EDA has initiated investigations to determine whether increased imports into the United States of articles like or directly competitive with those produced by each of the firms contributed importantly to the total or partial separation of the firms' workers, or threat thereof, and to a decrease in sales or production of each petitioning firm.

SUPPLEMENTARY INFORMATION:

List of Petitions Received by EDA for Certification of Eligibility To Apply for Trade Adjustment Assistance
[3/20/2021 through 4/13/2021]
Firm name | Firm address | Date accepted for investigation | Product(s)
The Albany Distilling Company, Inc | 78 Montgomery Street, Albany, NY 12207 | 3/25/2021 | The firm produces alcoholic beverages.
Vincent Piazza, Jr. & Sons Seafood, Inc | 1201 Sams Avenue, Harahan, LA 70123 | 3/30/2021 | The firm processes and distributes seafood.
Advanced Tool, Inc | 9169 River Road, Marcy, NY 13403 | 4/2/2021 | The firm manufactures industrial tools.
BNL Technologies, Inc. d/b/a Micronet | 20525 Manhattan Place, Torrance, CA 90501 | 4/2/2021 | The firm manufactures computer hard drives.
New England Union Company, Inc | 107 Hay Street, West Warwick, RI 02893 | 4/2/2021 | The firm manufactures metal pipes and metal pipe fittings.

Any party having a substantial interest in these proceedings may request a public hearing on the matter. A written request for a hearing must be submitted to the Trade Adjustment Assistance Division, Room 71030, Economic Development Administration, U.S. Department of Commerce, Washington, DC 20230, no later than ten (10) calendar days following publication of this notice. These petitions are received pursuant to section 251 of the Trade Act of 1974, as amended.

Please follow the requirements set forth in EDA's regulations at 13 CFR 315.8 for procedures to request a public hearing. The Catalog of Federal Domestic Assistance official number and title for the program under which these petitions are submitted is 11.313, Trade Adjustment Assistance for Firms.

Bryan Borlik,
Director.

[FR Doc. 2021-08176 Filed 4-20-21; 8:45 am]

BILLING CODE 3510-WH-P